DEPARTMENT OF HEALTH AND HUMAN SERVICES

Food and Drug Administration

[Docket No. 00N-0120]

Safety of Imported Foods; Public Meetings

AGENCY: Food and Drug Administration, HHS.

ACTION: Notice.

SUMMARY: The Food and Drug Administration (FDA) is announcing two public meetings on the safety of imported foods. These meetings are intended to give an overview of, and discuss the six specific objectives of, the proposed plan announced by the President in his radio address of December 11, 1999. FDA and the U.S. Customs Service have developed proposed new operational procedures to accomplish these objectives. The public meetings also are intended to give the public an opportunity to comment on the proposed procedures.

DATES: See Table 1 in the SUPPLEMENTARY INFORMATION section of this document.

ADDRESSES: See Table 1 in the SUPPLEMENTARY INFORMATION section of this document. Submit written comments to the Dockets Management Branch (HFA-305), Food and Drug Administration, 5630 Fishers Lane, Rm. 1061, Rockville, MD 20852. Two copies of any comments are to be submitted, except that individuals may submit one copy. Comments are to be identified with the docket number found in brackets in the heading of this document.

FOR FURTHER INFORMATION CONTACT: For general information regarding this document: Mary J. Ayling, Center for Food Safety and Applied Nutrition (HFS-32), Food and Drug Administration, 200 C St. SW., Rm. 3823, Washington, DC 20204, 202-260-5348, FAX 202-260-9653, e-mail: mayling@bangate.fda.gov. The comprehensive plan is available at http://www.foodsafety.gov.

SUPPLEMENTARY INFORMATION: On July 3, 1999, the President announced an initiative to ensure the safety of imported food by directing the Secretaries of the U.S. Department of Health and Human Services and the U.S. Department of Treasury to develop new operational procedures to protect public health. This initiative is geared to optimize the statutory authorities and resources available to FDA and the U.S. Customs Service to take whatever steps are feasible to protect consumers from unsafe imported foods. The President directed the agencies to target unscrupulous importers who violate the rules and work to subvert the system by moving unsafe foods into U.S. markets.

The agenda for the public meetings will include the following six specific objectives emphasized in the President's directive: (1) To prevent distribution of imported unsafe food by means such as requiring food to be held until reviewed by FDA; (2) destroy imported food that poses a serious public health threat; (3) prohibit the reimportation of food that has been previously refused admission and has not been brought into compliance and require the marking of shipping containers and/or papers of imported food that is refused admission for safety reasons; (4) set standards for the use of private laboratories for the collection and analysis of samples of imported food for the purpose of gaining entry into the United States; (5) increase the amount of the bond posted for imported foods when necessary to deter premature and illegal entry into the United States; and (6) enhance enforcement against violations of U.S. laws related to the importation of foods, including through the imposition of civil monetary penalties.

The public meetings also will include an overview of the President's directive and a review of the new operational procedures proposed to accomplish each of the six objectives. The meetings will provide a forum for discussion of the proposed procedures. In addition to a plenary session, the meetings will provide the opportunity for additional discussion of the specific objectives. Three breakout sessions to discuss the following are planned: (A) Secured storage, increased bonds, enforcement activities; (B) destruction and marking of refused foods; and (C) standards for the use of private laboratories. The U.S. Customs Service will jointly present the objectives with FDA. Transcripts of the public meetings are not planned.

If you would like to attend a public meeting, send registration information (including name, title, firm name, mailing address, telephone number, fax number, e-mail address, and selection of breakout session A, B, or C) to the contact person listed for the meeting you wish to attend at least 7 days prior to the meeting date. Attendance will be limited due to seating capacity. There is no registration fee for this meeting.

Meeting Address | Date and Local Time | FDA Contact Person
IRVINE: Los Angeles District Office, 19900 MacArthur Blvd., suite 300, Irvine, CA 92612. | Thursday, February 10, 2000, 9 a.m. to 12 noon. | Irene Gomez, 222 West 6th St., suite 700, San Pedro, CA 90731, 310-831-6123, ext. 103, e-mail: igomez@ora.fda.gov.
WASHINGTON: Hubert H. Humphrey Bldg., 200 D St. SW., rm. 800, Washington, DC 20204. | Thursday, February 17, 2000, 9 a.m. to 12 noon. | Peter A. Salsbury, Executive Operations Staff (HFS-022), 200 C St. SW., Washington, DC 20204, 202-205-4299, e-mail: psalsbur@bangate. fda.gov.

Dated: January 12, 2000.
Margaret M. Dotzel,
Acting Associate Commissioner for Policy.

[FR Doc. 00-1410 Filed 1-20-00; 8:45 am]

BILLING CODE 4160-01-F